DEPARTMENT OF TRANSPORTATION

Federal Aviation Administration

14 CFR Part 39

[Docket No. FAA-2004-19183; Directorate Identifier 2004-NM-158-AD; Amendment 39-13810; AD 2004-20-05]

RIN 2120-AA64

Airworthiness Directives; Airbus Model A318, A319, A320, and A321 Series Airplanes

AGENCY: Federal Aviation Administration (FAA), DOT.

ACTION: Final rule; request for comments.

SUMMARY: The FAA is adopting a new airworthiness directive (AD) for certain Airbus Model A318, A319, A320, and A321 series airplanes. This AD requires revising the airplane flight manual to provide procedures for the flightcrew to follow in the event of the loss of all liquid crystal display (LCD) units on airplanes equipped with a certain EIS2 standard of electronic instrument system. This AD is prompted by reports of the brief but total loss of all LCD units during cruise on airplanes equipped with that standard of electronic instrument system. We are issuing this AD to provide procedures to the flightcrew to restore operation of these LCD units and prevent prolonged loss of critical flight information to the flightcrew and the consequent reduced ability of the flightcrew to control the airplane during adverse flight conditions.

DATES: Effective October 15, 2004.

The incorporation by reference of a certain publication listed in the AD is approved by the Director of the Federal Register as of October 15, 2004.

We must receive comments on this AD by November 29, 2004.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this AD, contact Airbus, 1 Rond Point Maurice Bellonte, 31707 Blagnac Cedex, France. You can examine this information at the National Archives and Records Administration (NARA). For information on the availability of this material at NARA, call (202) 741-6030, or go to http://www.archives.gov/federal_register/code_of_federal_regulations/ibr_locations.html.

You can examine the contents of this AD docket on the Internet at http://dms.dot.gov, or in person at the Docket Management Facility, U.S. Department of Transportation, 400 Seventh Street SW., room PL-401, on the plaza level of the Nassif Building, Washington, DC.

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Examining the Docket

You can examine the AD docket on the Internet at http://dms.dot.gov, or in person at the Docket Management Facility office between 9 a.m. and 5 p.m., Monday through Friday, except Federal holidays. The Docket Management Facility office (telephone (800) 647-5227) is on the plaza level of the Nassif Building at the DOT street address stated in the ADDRESSES section. Comments will be available in the AD docket shortly after the DMS receives them.

FOR FURTHER INFORMATION CONTACT: Technical information: Tim Dulin, Aerospace Engineer, International Branch, ANM-116, FAA, Transport Airplane Directorate, 1601 Lind Avenue, SW., Renton, Washington 98055-4056; telephone (425) 227-2141; fax (425) 227-1149.

Plain language information: Marcia Walters, marcia.walters@faa.gov.

SUPPLEMENTARY INFORMATION: The Direction Générale de l'Aviation Civile (DGAC), which is the airworthiness authority for France, notified the FAA that an unsafe condition may exist on certain Airbus Model A318, A319, A320, and A321 series airplanes. The DGAC advises that there have been several reports of total loss of all six liquid crystal display (LCD) units for the electronic instrument system (EIS) of a certain EIS2 standard during cruise for a short period of time. The flightcrew used the standby instruments, and the LCD units were eventually recovered. Subsequent investigation revealed that the three display management computers had received erroneous data from one LCD unit. Loss of all LCD units, if not corrected, could result in loss of critical flight information to the flightcrew and the reduced ability of the flightcrew to control the airplane during adverse operating conditions.

Relevant Service Information

Airbus has issued Temporary Revision (TR) 4.02.00/22, dated June 22, 2004, to the A318/319/320/321 Airplane Flight Manual (AFM). The TR provides procedures for the flightcrew to follow in the event of the loss of all LCD units on airplanes equipped with a certain EIS2 standard of electronic instrument system. The DGAC mandated incorporation of the TR and issued French airworthiness directive F-2004-104 R1, dated August 18, 2004, to ensure the continued airworthiness of these airplanes in France.

The DGAC advises that a new EIS2 standard, 4.2, has been developed to address the problems associated with loss of the LCD units. Airbus Service Bulletin A320-31A1220, dated July 2, 2004 (reference Airbus Modification 34571), describes procedures for installing EIS2 standard 4.2, which eliminates the need for the AFM revision described above.

FAA's Determination and Requirements of This AD

These airplane models are manufactured in France and are type certificated for operation in the United States under the provisions of § 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to provide procedures to the flightcrew to restore operation of these LCD units and prevent prolonged loss of critical flight information to the flightcrew and the consequent reduced ability of the flightcrew to control the airplane during adverse flight conditions. This AD requires incorporation of the TR described previously, unless the new EIS2 standard is installed.

Differences Between FAA and DGAC Airworthiness Directives

The DGAC airworthiness directive mandates changes to the master minimum equipment list (MMEL). But this (FAA) AD will not mandate those MMEL changes because the limits imposed by the FAA-approved MMEL meet or exceed those mandated by the French airworthiness directive.

Although the DGAC airworthiness directive mandates the immediate incorporation of the TR's operational limitations, this (FAA) AD would allow up to 10 days for compliance. We find that a 10-day compliance time will provide the time necessary for operators to accomplish the requirements of this AD without adversely affecting safety.

Interim Action

We consider this AD interim action. The DGAC is considering mandating the new EIS standard on those airplanes. We may consider further rulemaking at that time.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed under ADDRESSES. Include “Docket No. FAA-2004-19183; Directorate Identifier 2004-NM-158-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications with you. You can get more information about plain language at http://www/faa.gov/language and http://www.plainlanguage.gov.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-20-05 Airbus: Amendment 39-13810. Docket No. FAA-2004-19183; Directorate Identifier 2004-NM-158-AD.

Effective Date

(a) This AD becomes effective October 15, 2004.

Affected ADs

(b) None.

Applicability

(c) This AD applies to airplanes, certificated in any category, that are listed in Table 1 of this AD.

Table 1.—Applicability
Airbus model— | Modified by Airbus modification— | Or Airbus service bulletin—
A318, A319, A320, and A321 series airplanes | 30368 or 31495 | A320-31-1193, dated October 1, 2003; or A320-31A1198, dated July 11, 2003.

Unsafe Condition

(d) This AD was prompted by reports of the brief but total loss of all liquid crystal display (LCD) units during cruise on airplanes equipped with a certain EIS2 standard of electronic instrument system. The FAA is issuing this AD to provide procedures to the flightcrew to restore operation of these LCD units and prevent prolonged loss of critical flight information to the flightcrew and the consequent reduced ability of the flightcrew to control the airplane during adverse flight conditions.

Compliance

(e) You are responsible for having the actions required by this AD performed within the compliance times specified, unless the actions have already been done.

AFM Revision

(f) Within 10 days after the effective date of this AD, revise the Limitations section of the Airbus A318/319/320/321 Airplane Flight Manual (AFM) by inserting a copy of Temporary Revision (TR) 4.02.00/22, dated June 22, 2004, into the AFM. When the information in the TR is included in the general revisions of the AFM, the general revisions may be inserted into the AFM, and the TR may be removed from the AFM.

EIS2 Standard 4.2

(g) For airplanes on which EIS2 standard 4.2 (Airbus Modification 34571) is installed, the requirements of paragraph (f) of this AD do not apply. Airbus Service Bulletin A320-31A1220, dated July 2, 2004, provides procedures for installing EIS2 standard 4.2 on in-service airplanes. The TR required by paragraph (f) of this AD may be removed from the AFM if EIS2 standard 4.2 is later installed.

Alternative Methods of Compliance (AMOCs)

(h) The Manager, International Branch, ANM-116, Transport Airplane Directorate, FAA, has the authority to approve AMOCs for this AD, if requested in accordance with the procedures found in 14 CFR 39.19.

Related Information

(i) French airworthiness directive F-2004-104 R1, dated August 18, 2004, also addresses the subject of this AD.

Material Incorporated by Reference

(j) You must use Airbus Temporary Revision 4.02.00/22, dated June 22, 2004, to the A318/319/320/321 Airplane Flight Manual, to perform the actions that are required by this AD, unless the AD specifies otherwise. The Director of the Federal Register approves the incorporation by reference of this document in accordance with 5 U.S.C. 552(a) and 1 CFR part 51. For copies of the service information, contact Airbus, 1 Rond Point Maurice Bellonte, 31707 Blagnac Cedex, France. You can review copies at the Docket Management Facility, U.S. Department of Transportation, 400 Seventh Street SW., room PL-401, Nassif Building, Washington, DC; or at the National Archives and Records Administration (NARA). For information on the availability of this material at NARA, call (202) 741-6030, or go to http://www.archives.gov/federal_register/code_of_federal_regulations/ibr_locations.html.

Issued in Renton, Washington, on September 20, 2004.
Kalene C. Yanamura,
Acting Manager, Transport Airplane Directorate, Aircraft Certification Service.

[FR Doc. 04-21651 Filed 9-29-04; 8:45 am]

BILLING CODE 4910-13-P